DEPARTMENT OF COMMERCE

National Oceanic and Atmospheric Administration

RIN 0648-XG044

General Advisory Committee to the U.S. Section to the Inter-American Tropical Tuna Commission and Scientific Advisory Subcommittee to the General Advisory Committee; Meeting Announcement

AGENCY: National Marine Fisheries Service (NMFS), National Oceanic and Atmospheric Administration (NOAA), Commerce.

ACTION: Notice of public meeting.

SUMMARY: NMFS announces a public meeting of the General Advisory Committee to the U.S. Section to the Inter-American Tropical Tuna Commission on June 28, 2018, and a public meeting of the Scientific Advisory Subcommittee to the General Advisory Committee on June 27, 2018. The meeting topics are described under the SUPPLEMENTARY INFORMATION section of this notice.

DATES: The meeting of the Scientific Advisory Subcommittee (SAS) to the General Advisory Committee (GAC) will be held on June 27, 2018, from 10:30 a.m. to 5 p.m. PDT (or until business is concluded). The meeting of the GAC will be held on June 28, 2018, from 8:30 a.m. to 5 p.m. PDT (or until business is concluded).

ADDRESSES: The GAC and SAS meetings will be held in the Pacific Conference Room (Room 300) at NMFS, Southwest Fisheries Science Center, 8901 La Jolla Shores Drive, La Jolla, California 92037-1508. Please notify Taylor Debevec (see FOR FURTHER INFORMATION CONTACT) by June 19, 2018, if you plan to attend either or both meetings in person or remotely. The meetings will be accessible by webinar—instructions will be emailed to meeting participants.

FOR FURTHER INFORMATION CONTACT: Taylor Debevec, West Coast Region, NMFS, at Taylor.Debevec@noaa.gov, or at (562) 980-4066.

SUPPLEMENTARY INFORMATION: In accordance with the Tuna Conventions Act (16 U.S.C. 951 et seq.), as amended, the U.S. Department of Commerce, in consultation with the Department of State (the State Department), appoints a General Advisory Committee (GAC) to the U.S. Section to the Inter-American Tropical Tuna Commission (IATTC) and a Scientific Advisory Subcommittee (SAS) that advises the GAC. The U.S. Section consists of the four U.S. Commissioners to the IATTC and representatives of the State Department, NOAA, Department of Commerce, other U.S. Government agencies, and stakeholders. The purpose of the GAC shall be to advise the U.S. Section with respect to U.S. participation in the work of the IATTC, with particular reference to development of U.S. policies, positions, and negotiating tactics. The purpose of the SAS is to advise the GAC on matters of science. NMFS West Coast Region staff provide administrative support for the GAC and SAS. The meetings of the GAC and SAS shall be open to the public, unless in executive session. The time and manner of public comment will be at the discretion of the chairs for the GAC and SAS.

The 93rd meeting of the IATTC, the 37th Meeting of the Parties to the Agreement on the International Dolphin Conservation Program (AIDCP), and working group meetings for both the IATTC and AIDCP will be held from August 16 to August 30, 2018 in Guatemala. For more information on these meetings, please visit the IATTC's website: https://www.iattc.org/MeetingsENG.htm.

GAC and SAS Meeting Topics

The SAS meeting topics will include, but are not limited to, the following:

(1) Outcomes of the 2018 meeting of the Scientific Advisory Committee (SAC) to the IATTC (e.g., stock status updates for tuna, tuna-like species, and other species caught in association with those fisheries in the eastern Pacific Ocean);

(2) Evaluation of the IATTC staff's recommended conservation measures for 2018;

(3) Issues related to the impact of fishing on non-target species, such as sharks, seabirds, sea turtles;

(4) Evaluation of U.S. proposals for the 93rd meeting of the IATTC and proposals from other IATTC members; and

(5) Other issues as they arise.

The GAC meeting topics will include, but are not limited to, the following:

(1) Outcomes of the 2018 meeting of the SAC to the IATTC (e.g., stock status updates for tuna, tuna-like species, and other species caught in association with those fisheries in the eastern Pacific Ocean);

(2) Recommendations and evaluations by the SAS;

(3) Issues related to the impact of fishing on non-target species, such as sharks, seabirds, sea turtles;

(4) Formulation of advice on issues that may arise at the 93rd meeting of the IATTC, including the IATTC staff's recommended conservation measures, U.S. proposals, and proposals from other IATTC members; and

(5) Other issues as they arise.

Special Accommodations

The meeting location is physically accessible to people with disabilities. Requests for sign language interpretation or other auxiliary aids should be directed to Taylor Debevec (see FOR FURTHER INFORMATION CONTACT) by June 12, 2018.

Authority: 16 U.S.C. 951 et seq.

Dated: March 6, 2018.
Emily H. Menashes,
Acting Director, Office of Sustainable Fisheries, National Marine Fisheries Service.

[FR Doc. 2018-04829 Filed 3-9-18; 8:45 am]

BILLING CODE 3510-22-P